DEPARTMENT OF THE INTERIOR

Fish and Wildlife Service

[FWS-R6-ES-2021-N187; FXES11130600000]

Endangered and Threatened Wildlife and Plants; Draft Recovery Plan for Desert Yellowhead

AGENCY: Fish and Wildlife Service, Interior.

ACTION: Notice of document availability for review and comment.

SUMMARY: We, the U.S. Fish and Wildlife Service, announce the availability of a draft recovery plan for desert yellowhead, a plant listed as threatened under the Endangered Species Act. We request review and comment on this draft recovery plan from Federal, State, Tribal, and local agencies and the public.

DATES: We must receive any comments on the draft recovery plan on or before January 7, 2022.

ADDRESSES:

Document availability: Copies of the draft recovery plan are available at http://www.fws.gov/endangered/species/recovery-plans.html and at https://ecos.fws.gov/ecp/species/7754. Alternatively, you may request a copy by U.S. mail from the Wyoming Field Office; 334 Parsley Blvd., Cheyenne, WY 82007; or by telephone at 307-772-2374. Persons who use a telecommunications device for the deaf may call the Federal Relay Service at 800-877-8339.

Submitting comments: If you wish to comment on the draft recovery plan, you may submit your comments in writing by email to Tyler Abbott, at tyler_abbott@fws.gov, or by U.S. mail to Tyler Abbott, Wyoming Field Supervisor, at the above U.S. mail address.

FOR FURTHER INFORMATION CONTACT: Tyler Abbott, Wyoming Field Supervisor, at the above U.S. mail address or by telephone at 307-772-2374. Persons who use a telecommunications device for the deaf may call the Federal Relay Service at 800-877-8339.

SUPPLEMENTARY INFORMATION: We, the U.S. Fish and Wildlife Service (Service), announce the availability of a draft recovery plan for desert yellowhead (Yermo xanthocephalus), a plant listed as threatened under the Endangered Species Act, as amended (Act; 16 U.S.C. 1531 et seq.). The draft recovery plan includes objective, measurable criteria, and site-specific management actions as may be necessary to remove the species from the Federal List of Endangered and Threatened Plants. We request review and comment on this draft recovery plan from Federal, State, Tribal, and local agencies and the public.

Species Information

On April 15, 2002, we listed desert yellowhead as a threatened plant (March 14, 2002; 67 FR 11442). On April 15, 2004, we designated approximately 360 acres (ac) (146 hectares (ha)) of critical habitat (March 16, 2004; 69 FR 12278).

Desert yellowhead is the only member of a monotypic genus. It is an endemic, herbaceous, perennial plant, with two known populations in Fremont County, Wyoming—Sand Draw and Cedar Rim. The two populations are approximately 5 miles (mi) (8 kilometers (km)) apart. New plants establish from seed or ramet, grow for multiple years before flowering, and may subsequently have years in which no flower production occurs (Doak et al. 2016, p. 4). This species is likely pollinated by visually oriented insects attracted to its bright yellow disk flowers and bracts (Dorn 1991, pp. 198-201). The two populations are found in sparsely vegetated cover at approximately 6,750 feet (ft) (2,057 meters (m)) for Sand Draw and 7,080 ft (2,158 m) for Cedar Rim.

We do not know the historical distribution of desert yellowhead. Currently, the total area occupied by the two populations is approximately 11.9 ac (4.8 ha). Both populations are located on lands administered by the Bureau of Land Management (BLM). Only the Sand Draw population occurs within designated critical habitat; the Cedar Rim population was not discovered until 2010, after critical habitat had been designated. Due to the variability of monitoring methods employed in different years, it is difficult to evaluate abundance trends; however, populations appear relatively stable.

The primary threat to desert yellowhead identified at the time of listing was mineral development, and secondary threats included invasive plants; grazing and trampling by livestock, wild horses, and ungulates; off-road vehicle recreation; deliberate damage or destruction of plants; and wildfire. Currently, the primary threat to the species is exploration for and development of locatable mineral resources, such as opals, gold, uranium, and zeolites. Without additional protections, we anticipate an increase in the magnitude of this threat affecting the species' future resiliency, redundancy, and representation. Secondary threats continue to include potential invasive plant encroachment; grazing and trampling by livestock, wild horses, and ungulates; off-road vehicle recreation; deliberate damage or destruction of plants; and potential wildfire. The potential threats from invasive plants and wildfire could be exacerbated by climate change.

Several regulatory mechanisms have been initiated since listing in 2002 as follows:

(1) Desert yellowhead is designated a sensitive species under the BLM's 6840 Manual (BLM 2008, entire) and under BLM's current Lander Resource Management Plan (RMP) (BLM 2014, entire). We expect the current Lander RMP to remain in place for another 15-20 years, and that a renewed RMP would continue to offer protections to this species, regardless of its status as a federally listed species.

(2) On July 12, 2005, the BLM published a notice in the Federal Register announcing the closure of certain BLM-administered public lands to all types of motor vehicle use to protect desert yellowhead and its critical habitat (70 FR 40053). The closure affects public lands located within, and adjacent to, the 360-ac (146-ha) designated critical habitat of the Sand Draw population of desert yellowhead.

(3) On January 30, 2008, Public Land Order number 7688 provided for the withdrawal of public lands for the protection of desert yellowhead (FR 73 5586). The order withdrew the 360 ac (146 ha) of land identified as critical habitat surrounding the Sand Draw population from surface entry and mining for 20 years. This protection is due for renewal in 2028. The Cedar Rim population was not known at this time, and discussions regarding the establishment of a mineral withdrawal for this population are ongoing.

Recovery Planning Process

Restoring an endangered or threatened animal or plant to the point where it is again a secure, self-sustaining member of its ecosystem is a primary goal of the Service's endangered species program. Recovery means improving the status of a listed species to the point at which listing is no longer necessary according to the criteria specified under section 4(a)(1) of the Act. The Act requires recovery plans for listed species unless such a plan would not promote the conservation of a particular species. To help guide recovery efforts, we prepare recovery plans to promote the conservation of the species.

The purpose of a recovery plan is to provide a recommended framework for the recovery of a species so that protection of the Act is no longer necessary. Pursuant to section 4(f) of the Act, a recovery plan must, to the maximum extent possible, include:

(1) A description of site-specific management actions as may be necessary to achieve the plan's goal for the conservation and survival of the species;

(2) Objective, measurable criteria which, when met, would support a determination under section 4(a)(1) of the Act that the species should be removed from the List of Endangered and Threatened Plants; and

(3) Estimates of time and costs required to carry out those measures needed to achieve the plan's goal and to achieve intermediate steps toward that goal.

We used our new recovery planning and implementation (RPI) process to develop the draft recovery plan for desert yellowhead. The RPI process helps reduce the time needed to develop and implement recovery plans, increases the relevancy of the recovery plan over longer timeframes, and adds flexibility so that the recovery plan can be more easily adjusted to new information and circumstances. Under our RPI process, a recovery plan will include the three statutorily required elements for recovery plans—objective and measurable criteria, site-specific management actions, and estimates of time and cost—along with a concise introduction and our strategy for how we plan to achieve species recovery. The RPI recovery plan is supported by a separate SSA report for the desert yellowhead (Service 2019, entire). The SSA is an in-depth, but not exhaustive, review of the species' biology and threats, an evaluation of its biological status, and an assessment of the resources and conditions needed to maintain long-term viability. The SSA provides the scientific background and threats assessment for desert yellowhead, which are key to the development of the recovery plan. A third, separate working document, called the recovery implementation strategy (RIS), steps down the more general descriptions of actions in the recovery plan to detail the specifics needed to implement the recovery plan, which improves the flexibility of the recovery plan. The RIS will be adaptable, with new information on actions incorporated, as needed, without requiring a concurrent revision to the recovery plan, unless changes to the three statutory elements are required.

Draft Recovery Plan

Below, we summarize components from our draft recovery plan. Please reference the draft recovery plan for full details (see ADDRESSES).

The draft recovery plan describes recovery as the maintenance of two (redundant) stable (resilient) populations within the species' historical range (representation), with conservation measures in place to reduce key threats.

The draft recovery plan includes recovery criteria for delisting that when met would indicate that the desert yellowhead may no longer need the protections of the Act. Delisting criteria include:

(1) Long term, renewable protections from mineral resource extraction are in place for both the Sand Draw and Cedar Rim populations and will remain in place for at least 10 years following delisting.

(2) The Sand Draw and Cedar Rim populations are secure, as evidenced by a stable or increasing population trend, with more than 5,797 individuals counted in Sand Draw's monitored quadrats and more than 242 individuals counted in Cedar Rim's monitored transects for 8 out of 10 consecutive survey years.

(3) Both the Sand Draw and Cedar Rim populations show evidence of sexual reproduction as evidenced by the production of at least one seed with a mature embryo in both populations over a 10-year period.

(4) A banked seed source containing seeds from both populations of desert yellowhead is secured in a Center for Plant Conservation (CPC)-affiliated institution.

To help meet these criteria, the draft recovery plan identifies recovery actions for each criterion.

Peer Review

In accordance with our July 1, 1994, peer review policy (59 FR 34270; July 1, 1994); our August 22, 2016, Director's Memo on the Peer Review Process; and the Office of Management and Budget's December 16, 2004, Final Information Quality Bulletin for Peer Review (revised June 2012), we solicited independent scientific reviews of the information contained in the SSA report. Results of this structured peer review process can be found at https://www.fws.gov/mountain-prairie/science/peerReview.php. We also submitted our SSA report to our Federal and State partners for their scientific review. There is no overlap of occupied habitat or critical habitat with Tribal lands. We incorporated the results of the peer and partner review in the SSA report, as appropriate. The SSA report is the scientific foundation for the draft recovery plan.

Request for Public Comments

This notice opens the public review and comment period for our draft recovery plan for the desert yellowhead. Section 4(f) of the Act requires that we provide public notice and an opportunity for public review and comment during the development of recovery plans. All comments we receive by the date specified (see DATES) will be considered prior to approval of the recovery plan. Written comments and materials regarding the recovery plan should be sent via one of the means in the ADDRESSES section.

We will consider all information we receive during the public comment period, and particularly look for comments that provide scientific rationale or factual background. The Service and other Federal agencies and partners will take these comments into consideration in the course of implementing an approved final recovery plan. We are specifically seeking comments and suggestions on the following questions:

• Understanding that the time and cost presented in the draft recovery plan will be fine-tuned when localized recovery implementation strategies are developed, do you think that the estimated time and cost to recovery are realistic? Is the estimate reflective of the time and cost of actions that may have already been implemented by Federal, State, county, or other agencies? Please provide suggestions or methods for determining a more accurate estimation.

• Do the draft recovery criteria provide clear direction to partners on what is needed to recover desert yellowhead? How could they be improved for clarity?

• Are the draft recovery criteria both objective and measurable given the information available for desert yellowhead now and into the future? Please provide suggestions.

• Do you think that the draft recovery actions presented in the draft recovery plan generally cover the types of actions necessary to meet the recovery criteria? If not, what general actions are missing? Are any of the draft recovery actions unnecessary for achieving recovery? Have we prioritized the actions appropriately?

Public Availability of Comments

We will summarize and respond to the issues raised by the public in an appendix to the approved final recovery plan. Before including your address, phone number, email address, or other personal identifying information in your comment, you should be aware that your entire comment—including your personal identifying information—may be made publicly available at any time. You may request at the top of your comment that we withhold this information from public review; however, we cannot guarantee that we will be able to do so.

Authority

The authority for this action is section 4(f) of the Endangered Species Act, 16 U.S.C. 1533(f).

Anna Muñoz,
Acting Deputy Regional Director.

[FR Doc. 2021-24392 Filed 11-5-21; 8:45 am]

BILLING CODE 4333-15-P